DEPARTMENT OF COMMERCE

Foreign-Trade Zones Board

[Order No. 1877]

Approval for Manufacturing Authority, Foreign-Trade Zone 158, Morgan Fabrics Corporation (Upholstered Furniture Covering Sets), Verona, MS

Pursuant to its authority under the Foreign-Trade Zones Act of June 18, 1934, as amended (19 U.S.C. 81a-81u), the Foreign-Trade Zones Board (the Board) adopts the following Order:

Whereas, the Greater Mississippi Foreign-Trade Zone, Inc., grantee of Foreign-Trade Zone 158, has requested manufacturing authority on behalf of Morgan Fabrics Corporation, within FTZ 158 in Verona, Mississippi (FTZ Docket 17-2012, filed 3-19-2012);

Whereas, notice inviting public comment has been given in the Federal Register (77 FR 17012, 3-23-2012) and the application has been processed pursuant to the FTZ Act and the Board's regulations; and,

Whereas, the Board adopts the findings and recommendations of the examiner's report, and finds that the requirements of the FTZ Act and the Board's regulations would be satisfied, and that the proposal would be in the public interest if approval were subject to certain restrictions and conditions;

Now, therefore, the Board hereby orders:

The application for manufacturing authority under zone procedures within FTZ 158 on behalf of Morgan Fabrics Corporation (MFC), as described in the application and Federal Register notice, is approved, subject to the FTZ Act and the Board's regulations, including Section 400.13, and further subject to the following restrictions and conditions:

1. The annual quantitative volume of foreign micro-denier suede upholstery fabric finished with a hot caustic soda solution that MFC may admit to FTZ 158 under nonprivileged foreign status (19 CFR 146.42) is limited to 3.0 million square yards.

2. MFC must admit all foreign-origin upholstery fabrics other than micro-denier suede fabric finished with a hot caustic soda solution to the zone under domestic (duty-paid) status (19 CFR 146.43).

3. For the purpose of monitoring by the FTZ Staff, MFC shall submit additional operating information to supplement its annual report data.

4. The authority for MFC shall remain in effect for a period of five years from the date of approval by the FTZ Board.

Signed at Washington, DC, this 11th day of January 2013.
Paul Piquado,
Assistant Secretary for Import Administration, Alternate Chairman, Foreign-Trade Zones Board.
Andrew McGilvray,
Executive Secretary.

[FR Doc. 2013-01699 Filed 1-25-13; 8:45 am]

BILLING CODE P